DEPARTMENT OF ENERGY

Federal Energy Regulatory Commission

[Project No. 2197-073]

Alcoa Power Generating, Inc.; Notice of Application Tendered for Filing With the Commission, Soliciting Additional Study Requests, and Establishing Procedural Schedule for Licensing and Deadline for Submission of Final Amendments

May 10, 2006.

Take notice that the following hydroelectric application has been filed with the Commission and is available for public inspection.

a. Type of Application: New Major License.

b. Project No.: 2197-073.

c. Date Filed: April 25, 2006.

d. Applicant: Alcoa Power Generating, Inc.

e. Name of Project: Yadkin Hydroelectric Project.

f. Location: The existing project is located on the Yadkin River in Stanly, Davidson, Davie, Montgomery, and Rowan Counties, North Carolina. The project does not affect Federal lands.

g. Filed Pursuant to: Federal Power Act 16 U.S.C. 791(a)-825(r)

h. Applicant Contact: Mr. Gene Ellis, Licensing and Property Manager, Alcoa Power Generating, Inc., Yadkin Division, P.O. Box 576, NC Highway 740, Badin, NC 28009-0576.

i. FERC Contact: Stephen Bowler, (202) 502-6861; or stephen.bowler@ferc.gov or Lee Emery, (202) 502-8379; or lee.emery@ferc.gov.

j. Cooperating Agencies: We are asking Federal, state, local, and tribal agencies with jurisdiction and/or special expertise with respect to environmental issues to cooperate with us in the preparation of the environmental document. Agencies who would like to request cooperating status should follow the instructions for filing such requests described in item l below. Cooperating agencies should note the Commission's policy that agencies that cooperate in the preparation of the environmental document cannot also intervene. See, 94 FERC ¶ 61,076 (2001).

k. Pursuant to section 4.32(b)(7) of 18 CFR of the Commission's regulations, if any resource agency, Indian Tribe, or person believes that an additional scientific study should be conducted in order to form an adequate factual basis for a complete analysis of the application on its merit, the resource agency, Indian Tribe, or person must file a request for a study with the Commission not later than 60 days from the date of filing of the application, and serve a copy of the request on the applicant.

l. Deadline for filing additional study requests and requests for cooperating agency status: June 25, 2006.

m. This application is not ready for environmental analysis at this time.

n. The Project Description: The existing Yadkin River Hydroelectric Project consists of four developments: High Rock, Tuckertown, Narrows, and Falls. The four developments are located on a 38-mile reach of the Yadkin River 60 miles northeast of Charlotte in central North Carolina. The High Rock development is the most upstream, with the Tuckertown, Narrows, and Falls Developments 8.7, 16.5, and 19.0 miles below High Rock respectively. The four Yadkin Developments have a combined installed capacity of 210 megawatts (MW). The project produces an average annual generation of 844,306 megawatt-hours.

The High Rock Development includes the following constructed facilities: (1) A 101-foot-high, 936-foot-long, concrete gravity dam, with a 550-foot-long, gate-controlled spillway; (2) ten, 45-foot-wide (Stoney) floodgates; (3) a 14,400-acre reservoir, with a normal pool elevation of 623.9 feet USGS (U.S. Geological Survey Datum) and a usable storage capacity of 217,400 acre-feet; (4) a powerhouse, integral to the dam, containing three vertical Francis turbine units directly connected to generators with a total installed capacity of 32,190 kW; and (5) appurtenant facilities.

The Tuckertown Development includes the following constructed facilities: (1) A 76-foot-high, 1,370-foot-long, concrete gravity dam with sections of rock fill and earth fill embankment; (2) a 480-foot-long spillway with eleven Tainter gates 35-feet-wide and 38-feet-high; (3) a 2,560-acre reservoir, with a normal pool elevation of 564.7 feet USGS and a usable storage capacity of 6,700 acre-feet; (4) a 204-foot-long powerhouse, integral to the dam, containing three Kaplan turbine units directly connected to generators with a total installed capacity of 38,040 kW; and (5) appurtenant facilities.

The Narrows Development includes the following constructed facilities: (1) A 201-foot-high, 1,144-foot-long, concrete gravity dam with a 640-foot-long main spillway; (2) twenty-two, 25-foot-wide by 12-foot-high (Tainter) flood gates and a trash gate; (3) a 128-foot-long intake structure with four 20-foot by 20-foot openings each with two vertical lift gates; (4) four 15-foot-diameter steel-lined penstocks; (5) a 213-foot-long by 80-foot-wide reinforced concrete and brick powerhouse located 280 feet downstream of the dam; (6) a 430-foot-long bypass spillway with ten Stoney gates (35-feet-wide by 28-feet-high); (7) a 5,355-acre reservoir, with a normal pool elevation of 509.8 feet USGS and a usable storage capacity of 129,100 acre-feet; (8) four vertical Francis turbines directly connected to generators with a total installed capacity of 447,150 kW; and (9) appurtenant facilities.

The Falls Development includes the following constructed facilities: (1) A 112-foot-high, 750-foot-long, concrete gravity dam; (2) a 526-foot-long spillway with a 441-foot section of Stoney gates (33-feet-wide by 34-feet-high), a 71-foot section of Tainter gates (25-feet-wide by 19-feet- and 14-feet-high respectively), and a 14-foot-long trash gate section; (3) a 204-acre reservoir, with a normal pool elevation of 332.8 feet USGS and a usable storage capacity of 940 acre-feet; (4) an 189-foot-long powerhouse, integral to the dam, and containing one S. Morgan Smith vertical Francis turbine and two Allis Chalmers propeller type turbines all directly connected to generators with a total installed capacity of 31,130 kW; and (5) appurtenant facilities.

Alcoa operates the High Rock Development in a store-and-release mode, and the Tuckertown, Narrows, and Falls Developments in a run-of-river mode. The High Rock Development provides storage for the downstream developments, and the Narrows Development provides some storage during low flow conditions and emergencies. The maximum annual drawdown for High Rock is 13 feet, with drawdowns of five feet or less typical during the summer months. At the other developments, the maximum annual drawdown is 3 to 4 feet, with an average daily drawdown of up to 1 to 2 feet. Progress Energy releases a weekly average minimum of 900 cfs into the Yadkin River from the Yadkin Project at the Falls Development.

o. Locations of the Application: A copy of the application is available for review at the Commission in the Public Reference Room or may be viewed on the Commission's Web site at http://www.ferc.gov using the “eLibrary” link. Enter the docket number excluding the last three digits in the docket number field to access the document. For assistance, contact FERC Online Support at FERCOnlineSupport@ferc.gov or toll-free at 1-866-208-3676, or for TTY, (202) 502-8659. A copy is also available for inspection and reproduction at the address in item (h) above.

You may also register online at http://www.ferc.gov/esubscribenow.htm to be notified via e-mail of new filings and issuances related to this or other pending projects. For assistance, contact FERC Online Support.

p. With this notice, we are initiating consultation with the North Carolina State Historic Preservation Officer (SHPO), as required by section 106, National Historic Preservation Act, and the regulations of the Advisory Council on Historic Preservation, 36 CFR, at § 800.4.

q. Procedural Schedule: The application will be processed according to the following Hydro Licensing Schedule. Revisions to the schedule may be made as appropriate.

Milestone | Target date
Tendering Notice | May 10, 2006.
Additional Study Requests & Interventions | June 25, 2006.
Additional Information Requests (if necessary) | July 2006.
Issue Acceptance Letter | October 2006.
Issue Scoping Document 1 for Comments | November 2006.
Hold Scoping Meetings | January 2007.
Request Additional Information (if necessary) | February 2007.
Issue Scoping Document 2 | March 2007.
Notice of Ready for Environmental Analysis | March 2007.
Filing of recommendations, preliminary terms and conditions, and fishway prescriptions | May 2007.
Commission issues Draft EA or EIS | September 2007.
Comments on Draft EA or EIS & Modified Terms and Conditions | November 2007.
Commission Issues Final EA or EIS | March 2008.
Ready for Commission Decision on the Application | April 2008.

Final amendments to the application must be filed with the Commission no later than 30 days from the issuance date of the notice of ready for environmental analysis.

Magalie R. Salas,
Secretary.

[FR Doc. E6-7490 Filed 5-16-06; 8:45 am]

BILLING CODE 6717-01-P